DEPARTMENT OF THE TREASURY

Community Development Financial Institutions Fund

Proposed Collection; Comment Request

ACTION: Notice and request for comments.

SUMMARY: The U.S. Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the Community Development Financial Institutions Fund (the “Fund”), an office within the Department of the Treasury, is soliciting comments concerning the CDFI Fund's Quarterly Institutional Level Report (QILR) for Awardees under the American Recovery and Reinvestment Act of 2009 (Recovery Act).

DATES: Written comments should be received on or before January 8, 2010 to be assured of consideration.

ADDRESSES: Direct all comments to Ruth Jaure, CDFI Program Manager, at the Community Development Financial Institutions Fund, U.S. Department of the Treasury, 601 13th Street, NW., Suite 200 South, Washington, DC 20005, by e-mail to cdfihelp@cdfi.treas.gov or by facsimile to (202) 622-7754. Please note this is not a toll free number.

FOR FURTHER INFORMATION CONTACT: The CDFI Fund's Quarterly Institutional Level Report (QILR) may be obtained from the Recovery Act page of the CDFI Fund's Web site at http://www.cdfifund.gov. Requests for additional information should be directed to Ruth Jaure, CDFI Program Manager, Community Development Financial Institutions Fund, U.S. Department of the Treasury, 601 13th Street, NW., Suite 200 South, Washington, DC 20005, or call (202) 622-9156. Please note this is not a toll free number.

SUPPLEMENTARY INFORMATION: Title: Quarterly Institutional Level Report.

OMB Number: 1559-0035.

Abstract: The Community Development Financial Institutions (CDFI) Program was established by the Community Development and Regulatory Improvement Act of 1994 to use federal resources to invest in and build the capacity of CDFIs to serve low-income communities and people lacking adequate access to affordable financial products and services. Through the CDFI and Native CDFI Assistance (NACA) Programs, the CDFI Fund provides: (i) Financial Assistance (FA) awards to CDFIs and Native CDFIs that have demonstrable community development impact through the deployment of credit, capital, and financial services within their respective Target Markets or by expansion into new Investment Areas, Low-Income Targeted Populations, or Other Targeted Populations, and (ii) Technical Assistance (TA) grants to CDFIs and entities proposing to become CDFIs in order to build their capacity to better address the community development and capital access needs of their existing or proposed Target Markets and/or to become certified CDFIs. The regulations governing the CDFI Program are found at 12 CFR part 1805 and provide guidance on evaluation criteria and other requirements of the CDFI Program. Through the Recovery Act, the CDFI Fund was given authority to make $98 million in CDFI and NACA Program awards. Fifty-nine CDFIs received FA awards through the CDFI Program and ten Native CDFIs received FA and TA awards through the NACA Program. These Awardees must comply with both Recovery Act and CDFI Fund reporting requirements. The CDFI Fund will require Recovery Act Awardees to complete a Quarterly Institutional Level Report (QILR) to be submitted to the CDFI Fund no later than 10 days after the end of each calendar quarter in order to track each Awardee's use of Recovery Act funds.

The questions that the QILR contains will allow the CDFI Fund to evaluate the effectiveness and impact of the CDFI and NACA Programs. In addition, by comparing the data received through the QILR and the Recovery Act data collection system, the CDFI Fund will be better able to monitor compliance with Recovery Act requirements and to assure the quality of information provided to the Recovery Act federal reporting portal. Failure to obtain the information collected in the QILR could result in improper monitoring of the uses of Federal funds.

Current Actions: Extension of a currently approved collection.

Type of Review: Regular Review.

Affected Public: CDFI and Native CDFI recipients of Recovery Act funding.

Estimated Number of Respondents: 69.

Estimated Annual Time Per Respondent: 95 hours.

Estimated Total Annual Burden Hours: 6,528 hours.

Requests for Comments: Comments submitted in response to this notice will be summarized and/or included in the request for Office of Management and Budget approval. All comments will become a matter of public record and may be published on the CDFI Fund Web site at http://www.cdfifund.gov. Comments are invited on: (a) Whether the collection of information is necessary for the proper performance of the functions of the CDFI Fund, including whether the information shall have practical utility; (b) the accuracy of the CDFI Fund's estimate of the burden of the collection of information; (c) ways to enhance the quality, utility, and clarity of the information to be collected; (d) ways to minimize the burden of the collection of information on respondents, including through the use of technology.

Authority: 12 U.S.C. 1834a, 4703, 4703 note, 4713, 4717; 31 U.S.C 321; 12 CFR part 1806; Public Law 111-5.

Dated: November 2, 2009.
Donna J. Gambrell,
Director, Community Development Financial Institutions Fund.

[FR Doc. E9-26872 Filed 11-6-09; 8:45 am]

BILLING CODE 4810-70-P